POSTAL SERVICE

39 CFR Part 551

Semipostal Stamp Program

AGENCY: Postal Service.

ACTION: Final rule.

SUMMARY: This final rule implements legislative changes to the semipostal stamp program. The amendments to Postal Service regulations involve the duration of the program, pricing, and responsibility for tracking costs.

EFFECTIVE DATE: February 5, 2002.

FOR FURTHER INFORMATION CONTACT: Cindy Tackett, (202) 268-6555.

SUPPLEMENTARY INFORMATION: The Semipostal Authorization Act, Public Law No. 106-253, 114 Stat. 634 (2000), authorizes the Postal Service to establish a 10-year program to sell semipostal stamps. The differential between the price of a semipostal stamp and the First-Class Mail® service rate, less an offset for the reasonable costs of the Postal Service, consists of an amount to fund causes that the “Postal Service determines to be in the national public interest and appropriate.” By law, revenue from sales (net of postage and the reasonable costs of the Postal Service) is to be transferred to selected executive agencies within the meaning of 5 U.S.C. § 105.

After soliciting public comment on proposed rules, on June 12, 2001, the Postal Service published a final rule establishing the regulations for the Semipostal Stamp Program. On November 12, 2001, Public Law No. 107-67, 115 Stat. 514 (2001), was enacted. Public Law No. 107-67 extends the sales period of the Breast Cancer Research stamp until December 31, 2003, and provides that the Postal Service must issue two additional semipostal stamps, to which selected provisions of 39 U.S.C. 416 apply. The first is a semipostal stamp to provide assistance to the families of the emergency relief personnel killed or permanently disabled in connection with the terrorist attacks of September 11, 2001. The Heroes semipostal stamp is to be issued as soon as practicable and may remain on sale through December 31, 2004. Funds raised in connection with this semipostal stamp are to be transferred to the Federal Emergency Management Agency.

The second is a semipostal stamp to fund domestic violence programs. The Domestic Violence semipostal stamp is to be issued as soon as practicable, but no later than the beginning of 2004, and may remain on sale through December 31, 2006. Funds raised in connection with this stamp are to be transferred to the U.S. Department of Health and Human Services.

To implement Public Law No. 107-67, the Postal Service is revising its regulations governing the Semipostal Stamp Program. In particular, 39 CFR 551.6 is revised to incorporate the new pricing formula for semipostal stamps issued under authority of 39 U.S.C. 416. This includes not only semipostal stamps issued by the Postal Service under its discretionary authority, but also the Heroes and Domestic Violence semipostal stamps. The new pricing formula provides that the differential, i.e., the difference between the purchase price and the postage value, must be at least 15 percent of the postage value of the semipostal stamp, and the price must be divisible by five. Section 551.6 is accordingly revised to reflect the change in the pricing formula.

Public Law No. 107-67 provides that both the Heroes and Domestic Violence semipostal stamps are not subject to any limitation prescribed by the Postal Service “relating to whether more than one semipostal may be offered for sale at the same time.” The Postal Service notes that 39 CFR 551.5(a) establishes a limit of one semipostal stamp issued at one time. In light of the specific exceptions listed in Public Law No. 107-67, the Postal Service interprets this limitation to extend only to semipostal stamps issued under the Postal Service's discretionary program. Hence, the Postal Service submits that it is unnecessary to promulgate a substantive change to 39 CFR 551.5, although the section is revised to refer to the enactment of Public Law No. 107-67.

Finally, several nonsubstantive changes are made to Part 551 to incorporate the enactment of Public Law No. 107-67 and to reflect organizational changes within the Postal Service. Specifically, in 39 CFR 551.1 reference is made to Public Law No. 107-67. Sections 551.1 and 551.8 are revised to reflect a new organizational unit name for the Office of Finance, with responsibilities related to semipostal stamps. In addition, § 551.8(b) is amended to include the sharing of responsibility for selecting comparable stamps between the Offices of Accounting, Finance, Controller and the Office of Stamp Services.

The Postal Service hereby adopts the following revisions to the Code of Federal Regulations.

List of Subjects in 39 CFR Part 551

Administrative practice and procedure, Postal Service.

For the reasons set out in this document, the Postal Service hereby amends 39 CFR Part 551 as follows:

PART 551—[AMENDED]

1. The authority citation for 39 CFR part 551 is revised to read as follows:

Authority: 39 U.S.C. 101, 201, 203, 401, 403, 404, 410, 416, and the Semipostal Authorization Act, Pub. L. 106-253, 114 Stat. 634 (2000), as amended by Pub. L. 107-67, section 652, 115 Stat. 514 (2001).

2. Revise § 551.1 to read as follows:

§ 551.1 Semipostal Stamp Program.

The Semipostal Stamp Program is established under the Semipostal Authorization Act, Public Law 106-253, 114 Stat. 634 (2000), as amended by Public Law 107-67, section 652, 115 Stat. 514 (2001). The Office of Stamp Services has primary responsibility for administering the Semipostal Stamp Program. The Office of Accounting, Finance, Controller has primary responsibility for the financial aspects of the Semipostal Stamp Program.

3. Amend § 551.5 by revising paragraph (a) to read as follows:

§ 551.5 Frequency and other limitations.

(a) The Postal Service is authorized to issue semipostal stamps for a 10-year period beginning on the date on which semipostal stamps are first sold to the public under 39 U.S.C. 416. The 10-year period will commence after the sales period of the Breast Cancer Research stamp is concluded in accordance with the Stamp Out Breast Cancer Act, and as amended by the Semipostal Authorization Act, the Breast Cancer Research Stamp Act of 2001, and Public Law 107-67, section 650, 115 Stat. 514. The Office of Stamp Services will determine the date of commencement of the 10-year period.

* * * * *

4. Amend § 551.6 by revising paragraph (a) to read as follows:

§ 551.6 Pricing.

(a) The Semipostal Authorization Act, as amended by Public Law 107-67, section 652, 115 Stat. 514 (2001), prescribes that the price of a semipostal stamp is the rate of postage that would otherwise regularly apply, plus a differential of not less than 15 percent. The price of a semipostal stamp shall be an amount that is evenly divisible by five. For purposes of this provision, the First-Class Mail® single-piece first-ounce rate of postage will be considered the rate of postage that would otherwise regularly apply.

* * * * *

5. Amend § 551.8 by revising paragraphs (b), (c), and (d) introductory text to read as follows:

§ 551.8 Cost offset policy.

* * * * *

(b) Overall responsibility for tracking costs associated with semipostal stamps will rest with the Office of Accounting, Finance, Controller. Individual organizational units incurring costs will provide supporting documentation to the Office of Accounting, Finance, Controller.

(c) For each semipostal stamp, the Office of Stamp Services, in coordination with the Office of Accounting, Finance, Controller, shall, based on judgment and available information, identify the comparable commemorative stamp(s) and create a profile of the typical cost characteristics of the comparable stamp(s) (i.e., manufacturing process, gum type), thereby establishing a baseline for cost comparison purposes. The determination of comparable commemorative stamps may change during or after the sales period, if the projections of stamp sales differ from actual experience.

(d) Except as specified, all costs associated with semipostal stamps will be tracked by the Office of Accounting, Finance, Controller. Costs that will not be tracked include:

* * * * *

Stanley F. Mires,
Chief Counsel, Legislative.

[FR Doc. 02-2741 Filed 2-4-02; 8:45 am]

BILLING CODE 7710-12-P